DEPARTMENT OF COMMERCE

National Oceanic and Atmospheric Administration

[I.D. 101900A]

Marine Mammals; File No. 775-1600

AGENCY: National Marine Fisheries Service (NMFS), National Oceanic and Atmospheric Administration (NOAA), Commerce.

ACTION: Receipt of application.

SUMMARY: Notice is hereby given that Michael Sissenwine, Northeast Fisheries Science Center, National Marine Fisheries Service, Room 312, 166 Water St., Woods Hole, Massachusetts 02543-1097, has applied in due form for a permit to take seven species of baleen whales, twenty species of odontocete and four species of pinnipeds for purposes of scientific research.

DATES: Written or telefaxed comments must be received on or before November 27, 2000.

ADDRESSES: The application and related documents are available for review upon written request or by appointment in the following office(s): Permits and Documentation Division, Office of Protected Resources, NMFS, 1315 East-West Highway, Room 13130, Silver Spring, MD 20910 (301/713-2289); and Northeast Region, NMFS, One Blackburn Drive, Gloucester, MA 01930-2298; phone (508) 281-9250; fax (508) 281-9371.

FOR FURTHER INFORMATION CONTACT: Ruth Johnson or Simona Roberts, 301/713-2289.

SUPPLEMENTARY INFORMATION: The subject permit is requested under the authority of the Marine Mammal Protection Act of 1972, as amended (MMPA; 16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR parts 222-227).

The Northeast Fisheries Science Center seeks permission to conduct research on seven species of baleen whales, twenty species of odontocetes and four species of pinnipeds. The study area would include all waters of the North Atlantic Ocean, including international waters, from the equator to latitude 80 degrees N except for territorial waters of other nations. The principal purpose of the research, for all species, relates to stock assessment (notably, but not limited to, estimation of abundance and determination of population structure); this is an activity for which NMFS has primary responsibility under the MMPA. Aerial surveys for right whales will be flown at a minimum altitude of 500 feet for the purpose of stock assessment as well to alert mariners of their presence. Types of take include potential harassment through approach (shipboard /aerial), biopsy sampling, acoustic sampling, tagging, and (for pinnipeds) tag/release. Permission is also sought to import and export material (including soft and hard tissue, blood, extracted DNA, and whole dead animals or parts thereof) to and from any country.

In compliance with the National Environmental Policy Act of 1969 (42 U.S.C. 4321 et seq.), an initial determination has been made that the activity proposed is categorically excluded from the requirement to prepare an environmental assessment or environmental impact statement.

Written comments or requests for a public hearing on this application should be mailed to the Chief, Permits and Documentation Division, F/PR1, Office of Protected Resources, NMFS, 1315 East-West Highway, Room 13705, Silver Spring, MD 20910. Those individuals requesting a hearing should set forth the specific reasons why a hearing on this particular request would be appropriate.

Comments may also be submitted by facsimile at (301) 713-0376, provided the facsimile is confirmed by hard copy submitted by mail and postmarked no later than the closing date of the comment period. Please note that comments will not be accepted by e-mail or by other electronic media.

Concurrent with the publication of this notice in the Federal Register, NMFS is forwarding copies of this application to the Marine Mammal Commission and its Committee of Scientific Advisors.

Dated: October 23, 2000.
Ann D. Terbush,
Chief, Permits and Documentation Division, Office of Protected Resources, National Marine Fisheries Service.

[FR Doc. 00-27699 Filed 10-26-00; 8:45 am]

BILLING CODE: 3510-22 -S